DEPARTMENT OF THE INTERIOR

Bureau of Land Management

[LLNVSO3000. L54400000. EU0000. LVCLF1805630.18X; MO# TBA TAS: 18XL5017AR]

Notice of Intent To Amend the Las Vegas Resource Management Plan and Prepare an Environmental Assessment; Notice of Segregation and Notice of Realty Action; Classification and Proposed Modified Competitive Sales of Public Land in Pahrump, Nye County, Nevada

AGENCY: Bureau of Land Management, Interior.

ACTION: Notice of Intent and Notice of Realty Action.

SUMMARY: In compliance with section 203 of the Federal Land Policy and Management Act (FLPMA), as amended, and the National Environmental Policy Act (NEPA) of 1969, as amended, the Bureau of Land Management's (BLM) Pahrump Field Office proposes to amend the 1998 Las Vegas Resource Management Plan (RMP) and prepare an Environmental Assessment (EA) to identify approximately 621 acres of public land for sale. The EA will also evaluate the proposed sale of these acres through two modified competitive sealed bid sales of public land for not less than the appraised fair market value (FMV). Publication of this notice in the Federal Register segregates the subject lands from all appropriation under the public land laws, including the general mining laws, and from the mineral leasing and geothermal leasing laws, except the sales provisions of FLPMA.

DATES: Interested parties may submit written comments regarding the RMP Amendment during the 30-day scoping period initiated by publication of this notice in the Federal Register and ending August 29, 2018. Interested parties may submit written comments regarding the Notice of Realty Action for the proposed land sale during the 45-day comment period initiated by publication of this notice in the Federal Register, and ending September 13, 2018. All dates related to the bid process are contained the SUPPLEMENTARY INFORMATION section.

ADDRESSES: You may submit comments on issues and planning criteria related to the plan amendment and realty action by any of the following methods:

• Email: ssapp@blm.gov.

• Fax: (702) 515-5010, Attn: Shevawn Sapp.

• Mail: BLM, Attn: Shevawn Sapp, Pahrump Field Office, 4701 N. Torrey Pines Dr., Las Vegas, NV, 89130-2301.

Documents, including, but not limited to, the draft plan amendment and supporting EA, pertinent to this proposal will be available at the above address.

FOR FURTHER INFORMATION CONTACT: For further information and/or to have your name added to the mailing list, send requests to one of the following:

• Shevawn Sapp, Realty Specialist, at telephone (702) 515-5063;

• Email: ssapp@blm.gov;

• Mailing Address: 4701 North Torrey Pines Drive, Las Vegas, NV 89130-2301.

Persons who use a telecommunications device for the deaf (TDD) may call the Federal Relay Service (FRS) at 800-877-8339, to contact the above individual during normal business hours. The FRS is available 24 hours a day, 7 days a week, to leave a message or question with the above individual. You will receive a reply during normal business hours.

SUPPLEMENTARY INFORMATION: Spring Mountain Raceway, LLC has requested that the BLM dispose of public land by direct sale or modified competitive sale within the Town of Pahrump for approximately 621 acres. The public land directly abuts property owned by Spring Mountain Raceway, LLC, along State Route 160 near Gamebird Road in Nye County. The Nye County Board of Commissioners supports the proposal. The BLM Pahrump Field Office intends to prepare an RMP amendment with an associated EA for the Las Vegas RMP. This Notice of Intent (NOI) includes a proposed two-phase modified competitive sealed bid sale, announces the beginning of the scoping process for the RMP amendment and a temporary segregation from appropriation under the public land laws, including the mining law, and mineral leasing and geothermal leasing laws, subject to valid existing rights. Because the Las Vegas RMP does not specifically include or identify the sale parcels for disposal, a land-use plan amendment is required.

The proposed sales would be conducted in two phases, with phase one anticipated in January 2019 and phase two anticipated in the summer of 2019. The first phase includes the proposed sale of approximately 553 acres. The second phase includes the remaining 68 acres, which also require cadastral survey before they may be sold. When ready, the Draft RMP Amendment and EA will be available for a 30-day public comment period, on BLM's website at https://go.usa.gov/xn7nT and may be announced in local news outlets as well. Sealed bids for the phase-one modified competitive sale may be mailed or delivered to the BLM Pahrump Field Office, at the address above, beginning January 10, 2019 and ending January 17, 2019. Sealed bids must be received at the BLM Office no later than 4:30 p.m. Pacific Time on January 17, 2019. The BLM will open the sealed bids for the phase one sale on January 18, 2019 at the BLM Pahrump Field Office at 10 a.m. Pacific Time. Sealed bids for the phase-two modified competitive sale may be mailed or delivered to the BLM Pahrump Field Office, at the address below, beginning August 16, 2019. Sealed bids must be received no later than 4:30 p.m. Pacific Time, August 23, 2019, in accordance with the sale procedures. The BLM will open the sealed bids for the phase-two sale on August 30, 2019 at the BLM Pahrump Field Office at 10 a.m. Pacific Time.

The segregation will terminate: (i) Upon publication in the Federal Register of a termination of the segregation; or (ii) At the end of two years from the date of this publication in the Federal Register, whichever occurs first.

The purpose of the public scoping process is to determine relevant issues that will influence the scope of the environmental analysis, including alternatives, and to guide the planning process. The preliminary issue for the plan amendment and proposed disposal area identified by BLM personnel; Federal, state, and local agencies; and interested stakeholders is desert tortoise habitat. The public land proposed for sale directly abuts property owned by Spring Mountain Raceway, LLC, along State Route 160 near Gamebird Road in Nye County. The land is described as:

Mount Diablo Meridian, Nevada

T. 20 S., R. 54 E.,

Sec. 27, SW¼, that part lying outside of the utility corridor;

Sec. 28, E½NE¼NE¼SW¼, NE¼SE¼NE¼SW¼,

S½SE¼NE¼SW¼, NE¼SE¼SW¼, E½SW¼SE¼SW¼, SE¼SE¼SW¼, and SE¼;

Sec. 34, lots 2, 3, and 4, those parts lying South of the utility corridor, lots 5 thru 8, NE1/4NW1/4, that part lying South the utility corridor, SE¼NW¼, and E½SW¼.

The area combined contains approximately 621 acres +/− according to the official plats of surveys of said land, on file with the BLM, and areas determined using GIS maps.

The BLM determined that a modified competitive method of sale would be the appropriate method for disposal of these parcels. These sales meet the criteria found in 43 CFR 2710.0-3(a)(2) because these disposals serve important public objectives, including but not limited to, expansion of communities and economic development, which cannot be achieved prudently or feasibly on other lands. The authorized officer has identified Spring Mountain Raceway, LLC, as the designated bidder for these parcels. The use of the modified-competitive sale method is consistent with 43 CFR 2711.3-2(a) because the authorized officer has determined it is necessary in order to assure equitable distribution of land among purchasers or to recognize equitable considerations or public policies.

Only written comments will be considered properly filed. Submit comments to the address in the ADDRESSES section. Before including your address, phone number, email address, or other personally identifiable information in your comment, you should be aware that your entire comment—including your personally identifiable information—may be made publicly available at any time. While you can ask the BLM in your comment to withhold your personally identifiable information from public review, we cannot guarantee that we will be able to do so.

Information concerning the sales, appraisals, reservations, sale procedures and conditions, Comprehensive Environmental Response, Compensation, and Liability Act (CERCLA) of 1980, maps delineating the proposed sale parcels, mineral potential report, the EA, and other environmental documents will be available for review at the BLM Pahrump Field Office, or by calling (702) 515-5000, and asking to speak to a member of the Pahrump Realty Team.

In accordance with 43 CFR 2710.0-6(c)(3)(ii) and 43 CFR 2711.3-2(a)(1)(i), modified competitive sale procedures are appropriate to protect on-going uses and to assure compatibility of the possible uses with adjacent lands. Conveyance of the sale parcels will be subject to valid existing rights and encumbrances of record, including, but not limited to, rights-of-way (ROW) for roads and public utilities. The patents will include appropriate indemnification clauses protecting the United States from claims arising out of the patentee's use occupancy or occupations on the patented lands. No warranty of any kind, express or implied, is given by the United States as to the title, physical condition, or potential uses of the parcels of land proposed for sale. The Pahrump Field Office will also publish a copy of this notice once a week for three consecutive weeks in the Pahrump Valley Times prior to both the phase-one and phase-two sales.

Segregation: Publication of this notice in the Federal Register segregates the subject lands from all appropriations under the public land laws, including the general mining laws and from the mineral leasing and geothermal leasing laws, except sale under FLPMA. The segregation will terminate: (i) Upon publication in the Federal Register of a termination of the segregation; or (ii) At the end of two years from the date of this publication in the Federal Register, whichever occurs first. On publication of this notice and until completion of the sales, the BLM is no longer accepting land-use applications affecting the parcels identified for sale. However, land-use applications may be considered after completion of the phase-two sale if the parcels are not sold. The parcels may be subject to land-use applications received prior to publication of this notice if processing the application would have no adverse effect on the marketability of title, or the FMV of the parcels. Encumbrances of record that may appear in the BLM public files for the parcels proposed for sale are available for review during business hours, 8 a.m. to 4:30 p.m., Pacific Time, Monday through Friday at the BLM Pahrump Field Office except during Federally recognized holidays. The parcels are subject to limitations prescribed by law and regulation, and prior to patent issuances, a holder of any ROW within the parcels may be given the opportunity to amend the ROW for conversion to a new term, including perpetuity, if applicable, or an easement. In accordance with regulations at 43 CFR 2807.15(b), the BLM notified the valid existing ROW holders by letter of their ability to convert their ROWs to perpetual ROWs or easements.

Once the Decision Record is filed, amending the RMP and approving the proposed sales, the modified competitive sales will occur in two phases. Phase one will dispose public land for which the existing cadastral survey is adequate. Phase two will dispose the remaining public land in the RMP amendment area after the cadastral survey for the parcels has been completed.

The patents if issued, would be subject to the following terms, conditions, and reservations:

1. All minerals deposits in the lands so patented, and to it, or persons authorized by it, the right to prospect for, mine, and remove such deposits from the same under applicable law and regulations to be established by the Secretary of the Interior are reserved to the United States, together with all necessary access and exit rights;

2. A ROW is reserved for ditches and canals constructed by authority of the United States under the Act of August 30, 1890 (43 U.S.C. 945);

3. The parcels are subject to valid existing rights;

4. The parcels are subject to reservations for road, public utilities and flood control purposes, both existing and proposed, in accordance with the local governing entities' transportation plans; and

5. Appropriate indemnification clauses protecting the United States from claims arising out of the lessee's/patentee's use, occupancy, or occupations on the leased/patented lands.

Pursuant to the requirements established by Section 120(h) of CERCLA, 42 U.S.C. 9620(h), as amended by the Superfund Amendments and Reauthorization Act of 1988, 100 Stat. 1670, notice is hereby given that the above-described lands have been examined and no evidence was found to indicate that any hazardous substances have been stored for one year or more, nor had any hazardous substances been disposed of or released on the subject property.

No warranty of any kind, express or implied, is given by the United States as to the title, whether or to what extent the land may be developed, its physical condition, future uses, or any other circumstance or condition. The conveyances of the parcels will not be on a contingency basis. However, to the extent required by law, the parcels are subject to the requirements of Section 120(h) of the CERCLA.

Sale procedures: All sale procedures apply to both the phase one and phase two sales. The approximate sale acreage is 553 acres for phase one and 68 acres for phase two. The FMV for both the phase one and phase two sales will be available on BLM's website at https://go.usa.gov/xn7nT no later than 30 days prior to the respective sale. The designated bidder must appoint an authorized representative for these sales by submitting, in writing, a notarized document that also identifies the level of capacity given to the authorized representative. The authorized representative will have the opportunity to meet and accept the high bid as the purchase price of the parcels. Should the authorized representative refuse to meet the high bid, the party submitting the high bid will be declared the successful bidder in accordance with regulations at 43 CFR 2711.3-2(c). Consistent with 43 CFR 2711.3-2(e), acceptance or rejection of any offer to purchase shall be in accordance with the procedures set forth in 43 CFR 2711.3-1(f) and (g). Sealed bids will be presented for the sale parcels for both phase one and phase two. Sealed bid envelopes must be clearly marked on the front lower left corner with: “SEALED BID BLM LAND SALE” and the identification number for the sale parcel. The phase one sale envelope should be marked “BLM SERIAL NUMBER N-95802.” The phase two sale envelope should be marked “BLM SERIAL NUMBER N-96616.” Each sealed bid shall state the highest bid amount and be accompanied by a cashier's check, certified check, or U.S. postal money order, and made payable in U.S. dollars to “Department of the Interior—Bureau of Land Management” for not less than 20 percent of the amount bid. Personal or company checks will not be accepted. The sealed bid envelope shall also include a completed and signed Certificate of Eligibility and supporting documentation. The Certificate of Eligibility can be found at the Pahrump Field Office or for an electronic form, please contact the Pahrump Field Office, as specified in the ADDRESSES section, above. Pursuant to regulations 43 CFR 2711.2, bidders must be (1) United States citizens 18 years of age or older; (2) A corporation subject to the laws of any State or of the United States; (3) An entity including, but not limited to associations or partnerships capable of acquiring and owning real property, or interests therein, under the laws of the State of Nevada; or (4) A State, State instrumentality, or political subdivision authorized to hold real property. United States citizenship is evidenced by presenting a birth certificate, passport, or naturalization papers. Sealed bids for phase one will be opened and recorded to determine the high bidder on January 18, 2019 at the Pahrump Field Office at 10:00 a.m., Pacific Time. Sealed bids for phase two will be opened and recorded to determine the high bidder on August 30, 2019, at the Pahrump Field Office at 10:00 a.m., Pacific Time. Pursuant to 43 CFR 2711.3-1(c), if two or more sealed bid envelopes containing valid bids of the same highest auction amount are received, oral bidding will start at the sealed bid amount between the matching sealed bidders. The highest bidder among the qualified bids received for each sale will be announced under 43 CFR 2711.3-1(d). The apparent high bidder must submit a deposit of not less than 20 percent of the successful bid by 3:00 p.m. Pacific Time on the day of the sale in the form of a certified check, postal money order, bank draft, or cashier's check made payable in U.S. dollars to the “Department of the Interior—Bureau of Land Management.” Funds must be delivered no later than 3:00 p.m. Pacific Time on the day of the applicable sale to the BLM Collection Officers located at the Pahrump Field Office. If the high bidder is unable to consummate the transaction for any reason, the second-highest bid may be considered for award. The BLM will send the successful bidder a high bidder letter with detailed information for full payment.

Within 30 days of the bid opening, the BLM will, in writing, either accept or reject all bids received. No contractual, or other rights against the United States, may accrue until the BLM officially accepts the offer to purchase and the full bid price is paid. Unless other satisfactory arrangements are approved in advance by a BLM authorized officer, conveyance of title shall be through the use of escrow. Designation of the escrow agent shall be through mutual agreement between the BLM and the prospective patentee, and costs of escrow shall be borne by the prospective patentee. Requests for all escrow instructions must be received by the Pahrump Field Office prior to 30 days before the prospective patentee's scheduled closing date. There are no exceptions. No contractual or other rights against the United States may accrue until the BLM officially accepts the offer to purchase, and the full bid price is submitted by the 180th day following the sale. All name changes and supporting documentation must be received at the BLM Pahrump Field Office 30 days from the date on the high bidder letter by 4:30 p.m., Pacific Time. Name changes will not be accepted after that date. To submit a name change, the apparent high bidder must submit the name change on the Certificate of Eligibility to the BLM Pahrump Field Office in writing. The remainder of the full bid price for the parcel must be paid prior to the expiration of the 180th day following the close of the sale. Payment must be submitted in the form of a certified check, postal money order, bank draft or cashier's check made payable in U.S. dollars to the “Department of the Interior—Bureau of Land Management.” Personal or company checks will not be accepted. Arrangements for electronic fund transfer to the BLM for payment of the balance due must be made a minimum of two weeks prior to the payment date. Failure to pay the full bid price prior to the expiration of the 180th day will disqualify the apparent high bidder and cause the entire 20 percent bid deposit to be forfeited to the BLM. Forfeiture of the 20 percent bid deposit is in accordance with 43 CFR 2711.3-1(d). No exceptions will be made. The BLM cannot accept the full bid price after the 180th day of the sale date.

The BLM will not sign any documents related to 1031 Exchange transactions. The timing and all other elements for completion of any 1031 Exchange are the bidder's responsibility. The BLM is not a party to any 1031 Exchange. All sales are made in accordance with and subject to the governing provisions of law and applicable regulations. In accordance with 43 CFR 2711.3-1(f), the BLM may accept or reject any or all offers to purchase, or withdraw any parcel of land or interest therein from sale, if, in the opinion of a BLM authorized officer, consummation of the sale would be inconsistent with any law, or for other reasons. The parcels, if not sold by modified competitive, sealed bid sale, may be identified for sale at a later date without further legal notice.

In order to determine the FMV, certain assumptions may have been made concerning the attributes and limitations of the land and potential effects of local regulations and policies on potential future land uses. Through publication of this notice, the BLM advises that these assumptions might not be endorsed or approved by units of local government. It is the bidder's responsibility to be aware of all applicable Federal, State, and local government laws, regulations and policies that may affect the subject lands, including any required dedication of lands for public uses. It is also the bidder's responsibility to be aware of existing or prospective uses of nearby properties. When conveyed out of Federal ownership, the lands will be subject to any applicable laws, regulations, and policies of the applicable local government for proposed future uses. It will be the responsibility of the purchaser to be aware through due diligence of those laws, regulations, and policies, and to seek any required local approvals for future uses. Bidders should also make themselves aware of any Federal or State law or regulation that may impact the future use of the property. Any land lacking access from a public road or highway will be conveyed as such, and future access acquisition will be the responsibility of the buyer.

Any adverse comments regarding the proposed sales will be reviewed by the BLM Nevada State Director, who may sustain, vacate, or modify this realty action. In the absence of any valid adverse comments, this realty action will become the final determination of the Department of the Interior.

Authority: 40 CFR 1501.7, 43 CFR 1610.2, 43 CFR 1610.5, 43 CFR 2400, 43 CFR 2710, 43 CFR 2711 and 43 CFR 2800.

Michael C. Courtney,
Acting Nevada State Director.

[FR Doc. 2018-16226 Filed 7-27-18; 8:45 am]

BILLING CODE 4310-HC-P